DEPARTMENT OF EDUCATION

[Docket No.: ED-2021-SCC-0072]

Agency Information Collection Activities; Submission to the Office of Management and Budget for Review and Approval; Comment Request; Maintenance-of-Effort Requirements and Waiver Requests Under the Elementary and Secondary School Emergency Relief (ESSER) Fund and the Governor's Emergency Education Relief (GEER) Fund

AGENCY: Office of Elementary and Secondary Education (OESE), Department of Education (ED).

ACTION: Notice.

SUMMARY: In accordance with the Paperwork Reduction Act of 1995, ED is proposing an extension without change of a currently approved collection.

DATES: Interested persons are invited to submit comments on or before August 18, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Britt Jung, (202) 453-6046.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Maintenance-of-Effort Requirements and Waiver Requests under the Elementary and Secondary School Emergency Relief (ESSER) Fund and the Governor's Emergency Education Relief (GEER) Fund.

OMB Control Number: 1810-0745.

Type of Review: Extension without change of a currently approved collection.

Respondents/Affected Public: State, Local, and Tribal Governments.

Total Estimated Number of Annual Responses: 81.

Total Estimated Number of Annual Burden Hours: 358.

Abstract: This is a request for an extension without change of an existing information collection, 1810-0745. In recognition of the immense challenges facing students, educators, staff, schools, LEAs, and SEAs right now, Congress has made additional ESSER and GEER funds available to SEAs and LEAs to prevent, prepare for, and respond to COVID-19 through the CRRSA Act and, most recently and significantly, the ARP Act. It is critical that States and Governors receive clear guidance on the MOE requirements under the CRRSA Act and the ARP Act to inform their spending decisions and implementation plans for the GEER and ESSER programs as SEAs and LEAs prepare to help schools return safely to in-person instruction, maximize in-person instructional time, sustain the safe operation of schools, and address the academic, social, emotional, and mental health impacts of the COVID-19 pandemic. This guidance and the associated collection provide States and Governors clear guidance they need to fully implement their GEER and ESSER programs. States and Governors have delayed distributing and spending funds due to the absence of guidance on the process for requesting waivers of MOE. Additionally, the Department will not be able to properly monitor GEER and ESSER recipients or provide technical assistance without collecting the MOE data and, when requested by States, grant MOE waiver requests.

Dated: July 14, 2021.
Kate Mullan,
PRA Coordinator, Strategic Collections and Clearance, Governance and Strategy Division, Office of Chief Data Officer, Office of Planning, Evaluation and Policy Development.

[FR Doc. 2021-15283 Filed 7-16-21; 8:45 am]

BILLING CODE 4000-01-P